DEPARTMENT OF HEALTH AND HUMAN SERVICES

Administration for Children and Families

Notice of Award of Non-Competitive Grant

AGENCY: Administration on Children, Youth and Families (ACYF) Administration for Children and Families (ACF), Department of Health and Human Services.

ACTION: Notice.

SUMMARY: Notice is hereby given that ACYF will award grant funds without competition to Western Kentucky University Head Start Quality Improvement Center (QIC) in the amount of $300,000. This award is made to the QIC to further the provision of technical assistance services nationally to grantees and regional offices when they undertake the purchase, construction or major renovation of Head Start program facilities. The award will be made for the budget period beginning September 1, 2001 for a twelve month period, under existing grant award 90YQ0016.

Authority: This award will be made pursuant to the Head Start Act, amended, 42 U.S.C. 9801 et seq. (CFDA 93.600)

FOR FURTHER INFORMATION CONTACT: Douglas Klafehn, Acting Associate Commissioner, Head Start Bureau, Administration for Children, Youth and Families, 330 C Street SW, Washington, D.C. 20447; (202) 205-8572.

Dated: May 15, 2001.
James A. Harrell,
Acting Commissioner, Administration on Children, Youth and Families.

[FR Doc. 01-12684 Filed 5-18-01; 8:45 am]

BILLING CODE 4184-01-M